DEPARTMENT OF AGRICULTURE

Animal and Plant Health Inspection Service

7 CFR Part 319

[Docket No. APHIS-2014-0005]

RIN 0579-AD94

Importation of Fresh Citrus From China Into the Continental United States

AGENCY: Animal and Plant Health Inspection Service, USDA.

ACTION: Proposed rule.

SUMMARY: We are proposing to amend the fruits and vegetables regulations to allow the importation into the continental United States of commercial consignments of five species of fresh citrus fruit from China. As a condition of entry, the citrus fruit would have to be produced in accordance with a systems approach that includes requirements for registration of places of production and packinghouses, sourcing of pest-free propagative material, inspection for quarantine pests at set intervals by the national plant protection organization (NPPO) of China, bagging of fruit, safeguarding, post-harvest processing and sampling, and importation in commercial consignments. Additionally, we would require places of production to trap for several species of Bactrocera fruit flies, and would require the fruit to be treated for those species of fruit flies. In addition, consignments would have to be accompanied by a phytosanitary certificate issued by the NPPO of China that declares that the conditions for importation have been met and that the consignments have been inspected and found free of quarantine pests. Finally, the NPPO of China would have to provide an operational workplan to the Animal and Plant Health Inspection Service of the United States Department of Agriculture that details the activities that the NPPO of China will carry out to meet these requirements. This proposed rule would allow for the importation of fresh citrus from China into the continental United States while providing protection against the introduction of plant pests.

DATES: We will consider all comments that we receive on or before October 27, 2014.

ADDRESSES: You may submit comments by either of the following methods:

• Federal eRulemaking Portal: Go to http://www.regulations.gov/#!docketDetail;D=APHIS-2014-0005.

• Postal Mail/Commercial Delivery: Send your comment to Docket No. APHIS-2014-0005, Regulatory Analysis and Development, PPD, APHIS, Station 3A-03.8, 4700 River Road Unit 118, Riverdale, MD 20737-1238.

Supporting documents and any comments we receive on this docket may be viewed at http://www.regulations.gov/#!docketDetail;D=APHIS-2014-0005 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Claudia Ferguson, Senior Regulatory Specialist, Regulatory Coordination and Compliance, PPQ, APHIS, 4700 River Road Unit 133, Riverdale, MD 20737-1236; (301) 851-2352.

SUPPLEMENTARY INFORMATION:

Background

The regulations in “Subpart—Fruits and Vegetables” (7 CFR 319.56-1 through 319.56-69, referred to below as the regulations) prohibit or restrict the importation of fruits and vegetables into the United States from certain parts of the world to prevent the introduction and dissemination of plant pests within the United States.

Currently, the regulations do not authorize imports of fresh citrus fruit from China into the United States. The Animal and Plant Health Inspection Service (APHIS) received a request from the national plant protection organization (NPPO) of China to amend the regulations to allow the importation of five species of commercially produced citrus fruit (Citrus grandis (L.) Osbeck cv. Guanximiyou, referred to in this document as pomelo; Citrus kinokuni Hort. ex Tanaka, referred to in this document as mandarin orange; Citrus poonensis Hort. ex Tanaka, referred to in this document as ponkan; Citrus sinensis (L.) Osbeck, referred to in this document as sweet orange; and Citrus unshiu Marcov., referred to in this document as Satsuma mandarin) from China into the continental United States. In evaluating China's request, we prepared a pest risk assessment (PRA) and a risk management document (RMD). Copies of the PRA and the RMD may be obtained from the person listed under FOR FURTHER INFORMATION CONTACT or viewed on the Regulations.gov Web site (see ADDRESSES above for instructions for accessing Regulations.gov).

The PRA, titled “Importation of Citrus from China into the Continental United States, A Qualitative, Pathway-Initiated Pest Risk Assessment” (USDA 2014), analyzed the potential pest risk associated with the importation of fresh citrus into the continental United States from China.

A quarantine pest is defined in § 319.56-2 of the regulations as a pest of potential economic importance to the area endangered thereby and not yet present there, or present but not widely distributed and being officially controlled. The PRA identified 22 quarantine pests that could follow the pathway for packed citrus fruit from China to the continental United States. They are:

• Brevipalpus junicus, a mite.

• Cenopalpus pulcher, a mite.

• Tuckerella knorri, a mite.

• Resseliella citrifrugis, a leaf miner.

• Bactrocera correcta, guava fruit fly.

• Bactrocera cucurbitae, melon fruit fly.

• Bactrocera dorsalis, oriental fruit fly.

• Bactrocera minax, Chinese citrus fruit fly.

• Bactrocera occipitalis, Pacific fruit fly.

• Bactrocera pedestris, a fruit fly.

• Bactrocera tau, a complex of fruit flies.

• Bactrocera tsuneonis, Japanese orange fly.

• Diaphorina citri, Asian citrus psyllid.

• Ostrinia furnacalis, Asian corn borer.

• Candidatus Liberibacter asiaticus, the bacterial pathogen that causes citrus greening.

• Candidatus Phytoplasma asteris, a bacterial pathogen that causes yellowing.

• Xanthomonas citri Schaad et al., a complex of bacteria that cause citrus canker.

• Phyllosticta citricarpa, the fungus that causes citrus black spot.

• Phyllosticta citrichinaensis, a fungus.

• Phyllosticta citriasiana, a fungus.

• Citrus bent leaf viroid.

• Satsuma dwarf virus.

Of these 22 pests, the PRA determined that 3, Candidatus Phytoplasma asteris, citrus bent leaf viroid, and Satsuma dwarf virus, pose a negligible risk of being introduced into the United States through the importation of citrus from China. Additionally, the PRA found that Candidatus Liberibacter asiaticus does not follow the pathway of citrus fruit unless it is vectored by D. citri on the fruit. (As noted above, however, the PRA did find D. citri to be a quarantine pest that could follow the pathway.) Finally, because P. citrichinaensis and P. citriasiana are extremely biologically similar to P. citricarpa, the PRA determined that its conclusions regarding P. citricarpa hold for these two pests as well.

The PRA did not evaluate the plant pest risk associated with D. citri, X. citri and P. citricarpa because domestic quarantines¹ exist in the United States for these pests and we have developed mitigations for the interstate movement of citrus fruit from areas of the United States that are quarantined for the pests. The importation of citrus from China would be subject to equivalent mitigations.

¹ The domestic quarantine regulations for D. citri are found in “Subpart—Citrus Greening and Asian Citrus Psyllid,” §§ 301.76 through 301.76-11 of 7 CFR. The domestic quarantine regulations for X. citri are found in “Subpart—Citrus Canker,” §§ 301.75-1 through 301.75-17. The domestic quarantine for P. citricarpa is found in a March 2012 Federal Order that is available at http://www.aphis.usda.gov/plant_health/plant_pest_info/citrus/downloads/black_spot/DA-2012-09-federalorder.pdf.

For the remaining quarantine pests, the PRA derived plant pest risk potentials by estimating the consequences and likelihood of introduction of each pest into the continental United States through the importation of citrus from China. The PRA considered six of the quarantine pests to have a high pest risk potential (B. correcta, B. dorsalis, B. minax, B. occipitalis, B. pedestris, and B. tsuneonis) and seven, a medium pest risk potential (B. junicus, C. pulcher, B. tau, T. knorri, R. citrifrugis, B. cucurbitae, and O. furnacalis).

Based on the findings of the PRA, APHIS has determined that measures beyond standard port-of-entry inspection are necessary in order to mitigate the risk associated with the importation of fresh pomelo, mandarin orange, ponkan, sweet orange, and Satsuma mandarin fruit from China into the continental United States. These measures are listed in the RMD and are used as the basis for the requirements of this proposed rule.

Therefore, we are proposing to amend the regulations to allow the importation of commercial consignments of fresh pomelo, mandarin orange, ponkan, sweet orange, and Satsuma mandarin fruit from China into the continental United States subject to a systems approach. Requirements of the systems approach, which would be added to the regulations as a new § 319.56-70, are discussed in the following sections.

Proposed Systems Approach

General Requirements

Proposed paragraph (a) of § 319.56-70 would set out general requirements for fresh pomelo, mandarin orange, ponkan, sweet orange, and Satsuma mandarin fruit from China destined for export to the continental United States.

Proposed paragraph (a)(1) of § 319.56-70 would require the NPPO of China to provide an operational workplan to APHIS that details systems approach activities that the NPPO of China and places of production and packinghouses registered with the NPPO of China would, subject to our approval of the workplan, carry out to meet the proposed requirements. An operational workplan is an arrangement between APHIS' Plant Protection and Quarantine program, officials of the NPPO of a foreign government, and, when necessary, foreign commercial entities, that specifies in detail the phytosanitary measures that will comply with our regulations governing the import or export of a specific commodity. Operational workplans apply only to the signatories and establish detailed procedures and guidance for the day-to-day operations of specific import/export programs. Operational workplans also establish how specific phytosanitary issues are dealt with in the exporting country and make clear who is responsible for dealing with those issues.

If the operational workplan is approved, APHIS would be directly involved with the NPPO of China in monitoring and auditing the systems approach implementation. Such monitoring could involve site visits by APHIS personnel.

Proposed paragraph (a)(2) of § 319.56-70 would require the pomelo, mandarin orange, ponkan, sweet orange, and Satsuma mandarin fruit considered for export to the continental United States to be grown by places of production that are registered with the NPPO of China.

Proposed paragraph (a)(3) of § 319.56-70 would require the pomelo, mandarin orange, ponkan, sweet orange, and Satsuma mandarin fruit to be packed for export to the continental United States in packinghouses that are registered with the NPPO of China.

Proposed paragraph (a)(4) of § 319.56-70 would require the NPPO of China to maintain all forms and documents pertaining to registered places of production and packinghouses for at least 1 year and, as requested, provide them to APHIS for review. Such forms and documents would include (but would not be limited to) records regarding fruit fly trapping in registered places of production and records regarding pest detections in registered places of production and registered packinghouses.

Proposed paragraph (a)(5) of § 319.56-70 would require pomelo, mandarin orange, ponkan, sweet orange, and Satsuma mandarin fruit from China to be imported into the continental United States in commercial consignments only. Noncommercial shipments are more prone to infestations because the commodity is often ripe to overripe, could be of a variety with unknown susceptibility to pests, and is often grown with little or no pest control. Commercial consignments, as defined in § 319.56-2 of the regulations, are consignments that an inspector identifies as having been imported for sale and distribution. Such identification is based on a variety of indicators, including, but not limited to: Quantity of produce, type of packaging, identification of place of production or packinghouse on the packaging, and documents consigning the fruits or vegetables to a wholesaler or retailer. For purposes of the proposed regulations, in order for a consignment to be considered a commercial consignment, fruit in the consignment would have to be practically free of leaves, twigs, and other plant parts, except for stems less than 1 inch long and attached to the fruit. We currently require most other fruits and vegetables imported into the United States from foreign countries to be imported in commercial consignments as a mitigation against quarantine pests of those commodities.

Proposed paragraph (a)(6) of § 319.56-70 would require the identity of each lot of pomelo, mandarin orange, ponkan, sweet orange, and Satsuma mandarin fruit from China destined for export to the United States to be maintained throughout the export process, from the place of production to the arrival at the port of entry in the continental United States. The means of identification that allows the lot to be traced back to its place of production would have to be authorized by the operational workplan. This requirement would facilitate traceback in the event that quarantine pests are discovered in a lot of pomelo, mandarin orange, ponkan, sweet orange, and Satsuma mandarin fruit destined for export to the United States. This, in turn, would help ensure that timely remedial measures are taken to address the plant pest risk at the place of production and preclude the further export of infested fruit from that place of production. We discuss these traceback procedures later in this document.

Proposed paragraph (a)(7) of § 319.56-70 would provide that lots of pomelo, mandarin orange, ponkan, sweet orange, and Satsuma mandarin fruit destined for export to the United States must be safeguarded during movement from registered places of production to registered packinghouses as specified by the operational workplan. Such safeguarding could include the use of pest-proof screens or tarpaulins to cover the lots during transit, or other similar prophylactic materials approved by APHIS and the NPPO of China.

This safeguarding requirement would help prevent the introduction of quarantine pests to the mandarin orange, pomelo, ponkan, Satsuma mandarin, and sweet orange fruit while the fruit is in transit.

Proposed paragraph (a)(8) of § 319.56-70 would require pomelo, mandarin orange, ponkan, sweet orange, and Satsuma mandarin fruit from China to be treated for B. correcta, B. cucurbitae, B. dorsalis, B. occipitalis, B. pedestris, B. tau, and B. tsuneonis in accordance with 7 CFR part 305. Within part 305, § 305.2 provides that approved treatment schedules are set out in the Plant Protection and Quarantine (PPQ) Treatment Manual, found online at http://www.aphis.usda.gov/import_export/plants/manuals/ports/downloads/treatment.pdf. The manual currently does not provide a treatment schedule specifically for pomelo, mandarin orange, ponkan, sweet orange, and Satsuma mandarin fruit for these species of fruit flies. However, there is an existing cold treatment schedule, T107-b, for a species of fruit fly, Anastrepha ludens, that is known to be significantly more cold-tolerant than these seven species. This treatment schedule specifies that commodities for which it is approved must either be treated at 33 °F or below for 18 days, 34 °F or below for 20 days, or 35 °F or below for 22 days.

Pursuant to the process set forth in § 305.2, we are proposing to amend the PPQ Treatment Manual to specify that cold treatment schedule T107-b is effective for pomelo, mandarin orange, ponkan, sweet orange, and Satsuma mandarin fruit for B. correcta, B. cucurbitae, B. dorsalis, B. occipitalis, B. pedestris, B. tau, and B. tsuneonis, if it is used in conjunction with the other provisions of the systems approach in § 301.56-70. If this proposed rule is finalized and we do not receive any comments that change our determination to amend the Treatment Manual in this manner, we will amend the manual accordingly.

In addition to this proposed cold treatment schedule, the citrus fruit may be treated for these species of Bactrocera with irradiation at a dose of at least 150 gray. This treatment schedule, which is already in the Treatment Manual as schedule T105, allows for irradiation treatment at a dose of at least 150 gray, and has been demonstrated to neutralize, that is, to kill, render sterile, or prevent from reaching maturity, each of these seven Bactrocera species.

Proposed paragraph (a)(9) of § 319.56-70 would require each consignment of pomelo, mandarin orange, ponkan, sweet orange, and Satsuma mandarin fruit imported from China into the continental United States to be accompanied by a phytosanitary certificate issued by the NPPO of China stating that the requirements of the proposed regulations have been met and consignments have been inspected and found free of quarantine pests. (Our proposed inspection requirements would be in paragraph (c)(2) of § 319.56-70.)

Place of Production Requirements

Our proposed systems approach would require places of production to take certain measures to prevent the introduction of quarantine pests to pomelo, mandarin orange, ponkan, sweet orange, and Satsuma mandarin fruit destined for export to the continental United States. Proposed paragraph (b) of § 319.56-70 would contain these measures.

Proposed paragraph (b)(1) of § 319.56-70 would require all propagative material entering a registered place of production to be tested and certified by the NPPO of China as being free of quarantine pests. Propagative material is considered to be a high risk pathway for a number of pests of citrus. Additionally, certain of these pests, such as C. liberibacter asiaticus, have extensive latency periods. Thus, material that is not tested and certified presents a risk of introducing quarantine pests into a place of production.

Proposed paragraph (b)(2) of § 319.56-70 would require registered places of production to remove plant litter and fallen debris from groves in accordance with the operational workplan. It would also prohibit fallen fruit from being included in field containers of fruit brought to the packinghouse to be packed for export. Plant litter, fallen debris, and fallen fruit are especially susceptible to fruit fly infestation.

Proposed paragraph (b)(3) of § 319.56-70 would require registered places of production to trap for Bactrocera spp. in accordance with the operational workplan. The operational workplan would specify the types of traps and baits that must be used, the minimum number of traps per acre that must be deployed, the requisite distance between each trap, and the intervals at which the traps must be serviced.

Proposed paragraph (b)(4) of § 319.56-70 would require places of production to carry out any additional grove sanitation and phytosanitary measures specified for the place of production by the operational workplan. Depending on the location, size, and plant pest history of the grove, these could include surveying protocols, safeguarding of trees, application of pesticides and fungicides, or other measures.

Proposed paragraph (b)(5) of § 319.56-70 would state that, when any pomelo, mandarin orange, ponkan, sweet orange, or Satsuma mandarin fruit are still on the tree and are no more than 2 cm in diameter, double-layered paper bags must be placed wholly over the fruit. This bagging would have to be monitored by the NPPO of China, and bags would have to remain intact and on the fruit until the fruit arrives at the packinghouse. This bagging protocol, which is modeled on a similar requirement for sand pears and Ya pears from China, would help protect the citrus fruit against quarantine insects and fungi.

Proposed paragraph (b)(6) of § 319.56-70 would require the NPPO of China to visit and inspect registered places of production regularly for signs of infestations and would allow APHIS to monitor these inspections. The NPPO of China would also have to provide records of pest detections and pest detection practices to APHIS, and APHIS would have to review and approve of these practices before the place of production could export citrus to the United States. This provision is modeled on an existing provision for the importation of sand pears and fragrant pears (Pyrus sp. nr. communis) from China, and serves a dual purpose: It not only provides for the NPPO of China to inspect the place of production for quarantine pests in a manner that APHIS believes to be sufficiently rigorous, but also affords the NPPO the opportunity to determine whether the place of production has continually maintained any phytosanitary measures specified for it by the operational workplan.

Proposed paragraph (b)(7) of § 319.56-70 would provide that, if APHIS or the NPPO of China determines that a registered place of production has failed to follow the requirements of the regulations, the place of production would be excluded from the export program for pomelo, mandarin orange, ponkan, sweet orange, and Satsuma mandarin fruit to the continental United States until APHIS and the NPPO of China jointly agree that the place of production has taken appropriate remedial measures to address plant pest risk.

Packinghouse Requirements

Proposed paragraph (c) of § 319.56-70 would set forth requirements for mitigation measures that would have to take place at registered packinghouses.

Proposed paragraph (c)(1) of § 319.56-70 would require the fruit to be washed, brushed, surface disinfected for X. citri and P. citricarpa in accordance with the operational workplan, treated with an APHIS-approved fungicide, and waxed. Section 301.75-7 requires citrus fruit from areas quarantined for X. citri to be treated at packinghouses for X. citri. Additionally, the March 2012 Federal Order for the interstate movement of citrus fruit from areas of the United States that are quarantined for P. citricarpa requires fruit from such areas to be washed, brushed, disinfected, treated for P. citricarpa, and waxed at packinghouseses. Accordingly, this requirement would be generally consistent with our own domestic requirements.

Because of the close similarity between P. citricarpa and P. citrichinaensis and P. citriasiana, we have determined that the measures would also mitigate for those two pests. Finally, because B. junicus, C. pulcher, T. knorri, R. citrifrugis, and D. citri are all external feeders, washing and brushing should remove them from the surface of the fruit, as well.

Proposed paragraph (c)(2) of § 319.56-70 would require the NPPO of China or officials authorized by the NPPO of China to visually inspect a biometric sample of each consignment for quarantine pests. As we mentioned earlier, B. junicus, C. pulcher, T. knorri, R. citrifrugis, and D. citri are all external feeders. Thus, visual inspection should be able to detect any fruit that are infested with those pests.

A portion of the citrus fruit would then have to be cut open and inspected for evidence of quarantine pests. (Cutting the fruit open would allow inspectors to determine whether the fruit are infested with fruit fly larvae.) If any evidence of quarantine pests is found, the entire consignment would be prohibited from export to the continental United States.

Proposed paragraph (c)(3) of § 319.56-70 would provide that, if APHIS or the NPPO of China determines that a registered packinghouse has failed to follow the requirements of the regulations, the packinghouse would be excluded from the export program for pomelo, mandarin orange, ponkan, sweet orange, and Satsuma mandarin fruit to the continental United States until APHIS and the NPPO of China jointly agree that the packinghouse has taken appropriate remedial measures to address plant pest risk.

Port of First Arrival Requirements

Proposed paragraph (d) of § 319.56-70 would provide that, if B. junicus, C. pulcher, T. knorri, R. citrifrugis, B. correcta, B. cucurbitae, B. dorsalis, B. minax, B. occipitalis, B. pedestris, B. tau, B. tsuneonis, D. citri, O. furnacalis, X. citri, P. citricarpa, P. citrichinaensis, or P. citriasiana is discovered on pomelo, mandarin orange, ponkan, sweet orange, or Satsuma mandarin fruit from China at the port of first arrival in the continental United States, the entire lot in which the quarantine pest was detected would be subject to appropriate remedial measures to address this risk. These measures could include prohibiting the lot from entering the continental United States, and ordering it instead to be re-exported or destroyed. APHIS and the NPPO of China will then initiate traceback of the lot to determine the source of the infestation. Depending on the results of this traceback, the place of production of the fruit and/or the packinghouse in which it was packed could be excluded from the export program for pomelo, mandarin orange, ponkan, sweet orange, and Satsuma mandarin fruit to the continental United States until APHIS and the NPPO of China jointly agree that the place of production and/or packinghouse has taken appropriate remedial measures to address plant pest risk. Depending on the nature of the pest, and the density of the infection or infestation, we may also suspend the entire export program until all appropriate measures have been taken.

Executive Orders 12866 and 13563 and Regulatory Flexibility Act

This proposed rule has been determined to be not significant for the purposes of Executive Order 12866 and, therefore, has not been reviewed by the Office of Management and Budget.

In accordance with 5 U.S.C. 603, we have performed an initial regulatory flexibility analysis, which is summarized below, regarding the economic effects of this proposed rule on small entities. Copies of the full analysis are available by contacting the person listed under FOR FURTHER INFORMATION CONTACT or on the Regulations.gov Web site (see ADDRESSES above for instructions for accessing Regulations.gov).

Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

The proposed rule would amend the current regulations to allow the importation of Citrus sinensis (sweet orange), Citrus poonensis (ponkan), Citrus grandis cv.guanximiyou (pomelo), Citrus kinokuni (mandarin orange), and Citrus unshiu (Satsuma mandarin) into the continental United States. A systems approach to pest risk mitigation would provide an appropriate level of phytosanitary protection against the pests of quarantine concern.

Citrus imports from China would compete with domestically produced fresh citrus and current U.S. imports. The quantity of oranges imported from China is likely to be relatively small. The majority of China's fresh orange exports, mostly navel oranges, go mainly to Russia and to neighboring countries in Asia. China's fresh orange exports to North America, mainly to Canada, are very limited, ranging from 100 to 300 metric tons (MT) per year. The United States is a net exporter of fresh oranges. An increase in orange imports of 300 MT per year would be equivalent to about one-fourth of 1 percent of fresh orange imports from all sources in the 2012/2013 season.

As with oranges, the bulk of China's tangerine and mandarin variety exports are to Russia and to neighboring Asian countries. Even though demand for fresh oranges has remained relatively flat in recent years, U.S. consumption of tangerine and mandarin varieties has been growing at a rate of about 9 percent per year and the United States is now a net importer of those varieties. Imports of fresh tangerine and mandarin varieties from China would help meet the growing demand for these citrus species, and the quantity could match the nearly 4.5 percent annual increase in imports (about 6,300 MT) that has occurred over the past 5 years. We expect that imports of pomelo and ponkan from China would be relatively minor, helping to serve the U.S. niche markets for these species.

The extent to which imports from China would result in greater competition for U.S. producers would depend on relative prices, the varieties shipped, seasonality, the qualitative attributes of the imported citrus, and the extent to which the citrus imported from China would displace imports from other countries. Importers and distributors of fresh citrus from China would also benefit from the proposed rule as it would provide them with new business opportunities.

We have identified industries that could be affected by the proposed rule based on the North American Industry Classification System. Based on Small Business Administration size standards, small entities are prominent in those industries for which information on business size composition is available.

Executive Order 12988

This proposed rule would allow fresh pomelo, mandarin orange, ponkan, sweet orange, and Satsuma mandarin fruit to be imported into the continental United States from China, subject to a systems approach. If this proposed rule is adopted, State and local laws and regulations regarding fresh pomelo, mandarin orange, ponkan, sweet orange, and Satsuma mandarin fruit imported under this rule would be preempted while the fruit is in foreign commerce. Fresh pomelo, mandarin orange, ponkan, sweet orange, and Satsuma mandarin fruit are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2014-0005. Please send a copy of your comments to: (1) Docket No. APHIS-2014-0005, Regulatory Analysis and Development, PPD, APHIS, Station 3A-03.8, 4700 River Road Unit 118, Riverdale, MD 20737-1238, and (2) Clearance Officer, OCIO, USDA, Room 404-W, 14th Street and Independence Avenue SW., Washington, DC 20250. A comment to OMB is best assured of having its full effect if OMB receives it within 30 days of publication of this proposed rule.

APHIS is proposing to amend the fruits and vegetables regulations to allow the importation of fresh pomelo, mandarin orange, ponkan, sweet orange, and Satsuma mandarin fruit from China into the continental United States. As a condition of entry, pomelo, mandarin orange, ponkan, sweet orange, and Satsuma mandarin fruit from China would have to be produced in accordance with a systems approach. This action would allow for the importation of fresh pomelo, mandarin orange, ponkan, sweet orange, and Satsuma mandarin fruit from China into the United States while providing protection against the introduction of quarantine pests.

Allowing fresh pomelo, mandarin orange, ponkan, sweet orange, and Satsuma mandarin fruit to be imported into the continental United States from China will require information collection activities, including phytosanitary certificates, producer and packinghouse registration, recordkeeping, inspection of registered places of production, lot identification, and an operational workplan.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 1.5 hours per response.

Respondents: NPPO of China, producers, and importers.

Estimated annual number of respondents: 136.

Estimated annual number of responses per respondent: 2.058.

Estimated annual number of responses: 280.

Estimated total annual burden on respondents: 420 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the EGovernment Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects in 7 CFR Part 319

Coffee, Cotton, Fruits, Imports, Logs, Nursery stock, Plant diseases and pests, Quarantine, Reporting and recordkeeping requirements, Rice, Vegetables.

Accordingly, we propose to amend 7 CFR part 319 as follows:

PART 319-FOREIGN QUARANTINE NOTICES

1. The authority citation for part 319 continues to read as follows:

Authority: 7 U.S.C. 450, 7701-7772, and 7781-7786; 21 U.S.C. 136 and 136a; 7 CFR 2.22, 2.80, and 371.3.

2. Section 319.56-70 is added to read as follows:

§ 319.56-70 Fresh citrus from China.

Fresh pomelo (Citrus grandis (L.) Osbeck cv. Guanximiyou), mandarin orange (Citrus kinokuni Hort. ex Tanaka), ponkan (Citrus poonensis Hort. ex Tanaka), sweet orange (Citrus sinensis (L.) Osbeck), and Satsuma mandarin (Citrus unshiu Marcov.) fruit may be imported into the continental United States from China only under the conditions described in this section. These conditions are designed to prevent the introduction of the following quarantine pests: Brevipalpus junicus, a mite; Cenopalpus pulcher, a mite; Tuckerella knorri, a mite; Resseliella citrifrugis, a leaf miner; Bactrocera correcta, guava fruit fly; Bactrocera cucurbitae, melon fruit fly; Bactrocera dorsalis, oriental fruit fly; Bactrocera minax, Chinese citrus fruit fly; Bactrocera occipitalis, Pacific fruit fly; Bactrocera pedestris, a fruit fly; Bactrocera tau, a complex of fruit flies; Bactrocera tsuneonis, Japanese orange fly; Diaphorina citri, Asian citrus psyllid; Ostrinia furnacalis, Asian corn borer; Xanthomonas citri, a complex of bacteria that cause citrus canker; Phyllosticta citricarpa, the fungus that causes citrus black spot; Phyllosticta citrichinaensis, a fungus; and Phyllosticta citriasiana, a fungus.

(a) General requirements—(1) Operational workplan. The national plant protection organization (NPPO) of China must provide an operational workplan to APHIS that details the activities that the NPPO of China and places of production and packinghouses registered with the NPPO of China will, subject to APHIS' approval of the workplan, carry out to meet the requirements of this section. The operational workplan must include and describe the specific requirements as set forth in this section. APHIS will be directly involved with the NPPO of China in monitoring and auditing implementation of the systems approach.

(2) Registered places of production. The pomelo, mandarin orange, ponkan, sweet orange, and Satsuma mandarin fruit considered for export to the continental United States must be grown by places of production that are registered with the NPPO of China.

(3) Registered packinghouses. The fresh pomelo, mandarin orange, ponkan, sweet orange, and Satsuma mandarin fruit must be packed for export to the continental United States in packinghouses that are registered with the NPPO of China.

(4) Recordkeeping. The NPPO of China must maintain all forms and documents pertaining to registered places of production and packinghouses for at least 1 year and, as requested, provide them to APHIS for review.

(5) Commercial consignments. Pomelo, mandarin orange, ponkan, sweet orange, and Satsuma mandarin fruit from China may be imported to the continental United States in commercial consignments only. For purposes of this section, fruit in a commercial consignment must be practically free of leaves, twigs, and other plant parts, except for stems less than 1 inch long and attached to the fruit.

(6) Identification. The identity of each lot of pomelo, mandarin orange, ponkan, sweet orange, and Satsuma mandarin fruit from China destined for export to the United States must be maintained throughout the export process, from the place of production to the arrival at the port of entry in the continental United States. The means of identification that allows the lot to be traced back to its place of production must be authorized by the operational workplan.

(7) Safeguarding. Lots of pomelo, mandarin orange, ponkan, sweet orange, and Satsuma mandarin fruit destined for export to the United States must be safeguarded during movement from registered places of production to registered packinghouses as specified by the operational workplan.

(8) Treatment for fruit flies. Pomelo, mandarin orange, ponkan, sweet orange, and Satsuma mandarin fruit from China destined for export to the continental United States must be treated for B. correcta, B. dorsalis, B. cucurbitae, B. occipitalis, B. pedestris, B. tau, and B. tsuneonis in accordance with part 305 of this chapter.

(9) Phytosanitary certificate. Each consignment of pomelo, mandarin orange, ponkan, sweet orange, and Satsuma mandarin fruit imported from China into the continental United States must be accompanied by a phytosanitary certificate issued by the NPPO of China stating that the requirements of this section have been met and the consignment has been inspected and found free of quarantine pests.

(b) Place of production requirements. (1) All propagative material entering a registered place of production must be tested and certified by the NPPO of China as being free of quarantine pests.

(2) Places of production must remove plant litter and fallen debris from groves in accordance with the operational workplan. Fallen fruit may not be included in field containers of fruit brought to the packinghouse to be packed for export.

(3) Places of production must trap for Bactrocera spp. in accordance with the operational workplan.

(4) Places of production must carry out any additional grove sanitation and phytosanitary measures specified for the place of production by the operational workplan.

(5) When any pomelo, mandarin orange, ponkan, sweet orange, or Satsuma mandarin fruit destined for export to the continental United States are still on the tree and are no more than 2 cm in diameter, double-layered paper bags must be placed wholly over the fruit. This bagging must be monitored by the NPPO of China. The bags must remain intact and on the fruit until it arrives at the packinghouse.

(6) The NPPO of China must visit and inspect registered places of production regularly throughout the exporting season for signs of infestations. The NPPO of China must allow APHIS to monitor these inspections. The NPPO of China must also provide records of pest detections and pest detection practices to APHIS. Before any place of production may export citrus to the continental United States pursuant to this section, APHIS must review and approve of these practices.

(7) If APHIS or the NPPO of China determines that a registered place of production has failed to follow the requirements in paragraph (b) of this section, the place of production will be excluded from the export program for pomelo, mandarin orange, ponkan, sweet orange, and Satsuma mandarin fruit to the continental United States until APHIS and the NPPO of China jointly agree that the place of production has taken appropriate remedial measures to address plant pest risk.

(c) Packinghouse requirements. (1) Prior to packing, the fruit must be washed, brushed, and surface disinfected for X. citri and P. citricarpa in accordance with the operational workplan, treated with an APHIS-approved fungicide, and waxed.

(2) After treatment, the NPPO of China or officials authorized by the NPPO of China must visually inspect a biometric sample of each consignment for quarantine pests. A portion of the fruit must then be cut open and inspected for evidence of quarantine pests. If any evidence of quarantine pests is found, the entire consignment will be prohibited from export to the continental United States.

(3) If APHIS or the NPPO of China determines that a registered packinghouse has failed to follow the requirements in this paragraph (c), the packinghouse will be excluded from the export program for pomelo, mandarin orange, ponkan, sweet orange, and Satsuma mandarin fruit to the continental United States until APHIS and the NPPO of China jointly agree that the packinghouse has taken appropriate remedial measures to address plant pest risk.

(d) Port of first arrival requirements. If any quarantine pest listed in the introduction to this section is discovered on pomelo, mandarin orange, ponkan, sweet orange, or Satsuma mandarin fruit from China at the port of first arrival in the continental United States, the entire lot in which the quarantine pest was detected will be subject to appropriate remedial measures to address this risk, and may be denied entry into the continental United States. APHIS and the NPPO of China will initiate traceback of the lot to determine the source of the infestation. Depending on the results of this traceback, the place of production of the fruit and/or the packinghouse in which it was packed may be excluded from the export program for pomelo, mandarin orange, ponkan, sweet orange, and Satsuma mandarin fruit to the continental United States until APHIS and the NPPO of China jointly agree that the place of production and/or packinghouse has taken appropriate remedial measures to address plant pest risk.

Done in Washington, DC, this 22nd day of August 2014.
Kevin Shea,
Administrator, Animal and Plant Health Inspection Service.

[FR Doc. 2014-20493 Filed 8-27-14; 8:45 am]

BILLING CODE 3410-34-P